DEPARTMENT OF HEALTH AND HUMAN SERVICES

National Institutes of Health

National Institute of Neurological Disorders and Stroke; Amended Notice of Meeting

Notice is hereby given of a change in the meeting of the National Advisory Neurological Disorders and Stroke Council, September 13, 2001, 10:30 a.m. to September 14, 2001, 5 p.m., 1 Center Drive, Building 1, Wilson Hall, Bethesda, MD 20892 which was published in the Federal Register on August 27, 2001, 01-21527.

The meeting has been rescheduled for Oct. 8, 2001, 10:30 a.m., Natcher Bldg., Rm E1-E2. For further information regarding times and locations of Subcommittee meetings, please go to www.ninds,nih.gov/about_ninds/advisory_council_info.htm. The meeting is partially closed to the public.

Dated: September 26, 2001.
LaVerne Y. Stringfield,
Director, Office of Federal Advisory Committee Policy.

[FR Doc. 01-24832 Filed 10-3-01; 8:45 am]

BILLING CODE 4140-01-M